DEPARTMENT OF AGRICULTURE

Rural Housing Service

Notice of Request for Extension of a Currently Approved Information Collection

AGENCY: Rural Housing Service, USDA.

ACTION: Proposed collection; comments requested.

SUMMARY: In accordance with the Paperwork Reduction Act of 1995, this notice announces the Rural Housing Service's intention to request an extension for a currently approved information collection in support of Security Servicing for Multiple Family Housing Loans.

DATES: Comments on this notice must be received by June 23, 2003, to be assured of consideration.

FOR FURTHER INFORMATION CONTACT: James E. Vollmer, Senior Loan Specialist, Multi-Family Housing Portfolio Management Division, Rural Housing Service, Stop 0782, U.S. Department of Agriculture, 1400 Independence Avenue, SW., Washington, DC 20250-0782. Telephone: (202) 720-1060.

SUPPLEMENTARY INFORMATION: Title:Security Servicing for Multiple Family Housing Loans.

OMB Number: 0575-0100.

Expiration Date of Approval: October 31, 2003.

Type of Request: Extension of a currently approved information collection.

Abstract: The Rural Housing Service (RHS) is an Agency of the U.S. Department of Agriculture (USDA). As a creditor of last resort, the Agency extends financial assistance in support of housing for rural residents. The Agency is authorized under sections 514, 515, 516, and 521 of title V of the Housing Act of 1949, as amended, to provide loans and grants to eligible recipients for the development of rural rental housing. Such Multiple Family Housing projects are intended to meet the housing needs of persons or families having low to moderate incomes, senior citizens, the disabled, and domestic farm laborers.

The Agency has the responsibility of assuring the public that the housing projects financed are owned and operated as mandated by Congress. This regulation was issued to ensure proper servicing actions are accomplished for projects financed with Multiple Family Housing loan and grant funds. Minimal requirements have been established as deemed necessary to assure that applicable laws and authorities are carried out as intended, and to improve the Agency's ability to assure the continued availability of the facilities financed under the Agency's multiple housing programs to eligible users.

Without the provisions of this regulation, the Agency would be unable to provide the necessary guidance to the Agency's field staff to assist borrowers in processing servicing actions affecting their projects. The Agency also would not be able to quickly respond to servicing requests from borrowers, initiate servicing actions, or establish a uniform procedure for processing such requests from borrowers. The Agency must be able to assure Congress and the general public that all projects financed with Multiple Family Housing funds will be maintained for the purposes for which they are intended and used for the benefit of those they are mandated to serve.

Public Law (Pub. L.) 95-375 provides administrative powers for the Secretary of Agriculture to carry out the provisions of title V of the Housing Act of 1949, as amended. This law provides for making rules and regulations necessary to carry out the purposes of title V. The purpose of the applicable sections 514, 515, 516, and 521 of the Housing Act as stated above is to provide rental housing to eligible low-(including very low-) and moderate-income tenants at affordable rental rates. The Agency has been charged with the responsibility of protecting the interest of the taxpayer's funds and to assure that the objectives of the loans and grants are carried out as intended. In an effort to carry out the responsibilities of assuring that the objectives of the law are met, it is required that information be collected to assure program objectives and integrity is maintained.

Pub. L. 88-352, “Civil Rights Act of 1965,” as amended, title VI, Pub. L. 90-284 and 93-383, Pub. L. 93-383, “Sex Discrimination, Executive Order 11246, the Equal Credit Opportunity Act of 1974, and the Fair Housing Amendments Act of 1988 are also applicable to the 514, 515, 516, and 521 programs. Civil Rights compliance reviews are conducted to assure nondiscrimination in these Federally assisted programs. The owners are, therefore, required to keep certain information, such as a list of applicants, list of tenants, verifications of income of the tenants, and records or rejected applicants, and make such information available to the compliance review officer upon request.

Estimate of Burden: Public reporting burden for this collection of information is estimated to average 1.7 hours per response.

Respondents: The primary respondents are small business organizations.

Estimated Number of Respondents: 930.

Estimated Number of Responses per Respondent: 1.

Estimated Number of Responses: 930.

Estimated Total Annual Burden on Respondents: 1,583 hours.

Copies of this information collection can be obtained from Tracy Givelekian, Regulations and Paperwork Management Branch, at (202) 692-0039.

Comments

Comments are invited on: (a) Whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Tracy Givelekian, Regulations and Paperwork Management Branch, U.S. Department of Agriculture, Rural Development, STOP 0742, 1400 Independence Ave., SW., Washington DC 20250. All responses to this notice will be summarized and included in the request for OMB approval. All comments will also become a matter of public record.

Dated: April 7, 2003.
James E. Selmon, III,
Acting Administrator, Rural Housing Service.

[FR Doc. 03-10158 Filed 4-23-03; 8:45 am]

BILLING CODE 3410-XV-P